DEPARTMENT OF THE INTERIOR

Bureau of Indian Affairs

[201A2100DD/AAKC001030/A0A51010.999900]

Proclaiming Certain Lands as Reservation for the Shakopee Mdewakanton Sioux Community of Minnesota

AGENCY: Bureau of Indian Affairs, Interior.

ACTION: Notice of reservation proclamation.

SUMMARY: This notice informs the public that the Assistant Secretary—Indian Affairs proclaimed approximately 114 acres, more or less, an addition to the reservation of the Shakopee Mdewakanton Sioux Community of Minnesota on June 3, 2020.

FOR FURTHER INFORMATION CONTACT: Ms. Sharlene M. Round Face, Bureau of Indian Affairs, Division of Real Estate Services, 1001 Indian School Road NW, Box #44, Albuquerque, New Mexico 87104, or telephone (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The land was proclaimed to be the Shakopee Reservation for the Shakopee Mdewakanton Sioux Community of Minnesota, Scott County, and State of Minnesota.

Shakopee Reservation for the Shakopee Mdewakanton Sioux Community of Minnesota

1 Parcel—Fifth Principal Meridian, Scott County, Minnesota

Legal Descriptions Containing 114 Acres, More or Less

Tollefson Parcel, 411 T 1029

That part of the Southwest Quarter of Section 14, Township 115, Range 22, Scott County, Minnesota, lying southerly of the center line of County Road No. 16, also known as Eagle Creek Boulevard, except the following described parcel:

Commencing at the southeast corner of said Southwest Quarter of Section 14; thence North 0 degrees 18 minutes 13 seconds East, assumed bearing, along the east line of said Southwest Quarter, a distance of 1198.75 feet to the point of beginning of the land to be described; thence North 89 degrees 41 minutes 47 seconds West 314.88 feet; thence southwesterly 176.44 feet, along a tangential curve, concave to the southeast, having a radius of 400.00 feet, and a central angle of 25 degrees 16 minutes 23 seconds; thence North 31 degrees 36 minutes 25 seconds West, not tangent to the last described curve 118.74 feet; thence South 74 degrees 28 minutes 13 seconds West 140.73 feet; thence North 86 degrees 59 minutes 05 seconds West 446.87; thence North 0 degrees 17 minutes 27 seconds East 892.61 feet to the center line of County Road No.16, also known as Eagle Creek Boulevard; thence South 76 degrees 11 minutes 41 seconds East, along said center line, a distance of 1162.51 feet to the east line of said Southwest Quarter; thence South 0 degrees 18 minutes 13 seconds West, along said east line, a distance 666.45 feet to the point of beginning.

Abstract Property

The above described lands contain a total of 114 acres, more or less, which are subject to all valid rights, reservations, rights-of-way, and easements of record.

This proclamation does not affect title to the lands described above, nor does it affect any valid existing easements for public roads, highways, public utilities, railroads and pipelines, or any other valid easements or rights-of-way or reservations of record.

Tara Sweeney,
Assistant Secretary—Indian Affairs.

[FR Doc. 2020-13064 Filed 6-16-20; 8:45 am]

BILLING CODE 4337-15-P